DEPARTMENT OF COMMERCE

International Trade Administration

[A-570-504]

Petroleum Wax Candles From the People's Republic of China: Rescission of Antidumping Duty Administrative Review

AGENCY: Import Administration, International Trade Administration, U.S. Department of Commerce.

ACTION: Notice of rescission of the antidumping duty administrative review for the period August 1, 1999 through July 31, 2000.

SUMMARY: On October 2, 2000, in response to a request made by Jo-Ann Stores, Inc. (“JAS”), a U.S. importer of the subject merchandise, the Department of Commerce (“Department”) published the notice of initiation of an antidumping duty administrative review on petroleum wax candles from the People's Republic of China (PRC), for the period August 1, 1999 through July 31, 2000. Because the interested party has withdrawn its request for review, the Department is rescinding this review in accordance with 19 CFR 351.213(d)(1).

EFFECTIVE DATE: November 22, 2000.

FOR FURTHER INFORMATION CONTACT: Abdelali Elouaradia or Matthew Renkey, Enforcement Group III, Office 7, Import Administration, International Trade Administration, U.S. Department of Commerce, 1401 Constitution Avenue, NW., Washington, DC 20230; telephone: 202-482-1374 and 202-482-2312, respectively.

SUPPLEMENTARY INFORMATION:

Applicable Statute and Regulations

Unless otherwise indicated, all citations to the Tariff Act of 1930, as amended (“the Act”), are references to the provisions effective January 1, 1995, the effective date of the Uruguay Round Agreements Act. In addition, unless otherwise indicated, all citations to the Department's regulations are to the regulations codified at 19 CFR Part 351 (2000).

Background

On August 31, 2000, JAS requested that the Department conduct an administrative review for the period August 1, 1999 through July 31, 2000, of Universal Candle Company, Ltd. (“Universal”), a producer/exporter of the subject merchandise from the PRC. On October 2, 2000, the Department published a notice of initiation of the antidumping administrative review on petroleum wax candles from China, in accordance with 19 CFR 351.221(c)(1)(i). See Initiation of Antidumping and Countervailing Duty Administrative Reviews, 65 FR 58733 (October 2, 2000). On November 1, 2000, JAS withdrew its request for review.

Rescission of Review

Pursuant to our regulations, the Department will rescind an administrative review, “if a party that requested the review withdraws the request within 90 days of the date of publication of notice of initiation of the requested review.” See 19 CFR 351.213(d)(1). The interested party's withdrawal of its request for review was within the 90-day time limit; accordingly, we are rescinding the administrative review for the period August 1, 1999 through July 31, 2000, and will issue appropriate assessment instructions to the U.S. Customs Service.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation. This determination is issued in accordance with 19 CFR 351.213(d)(4) and section 777(i)(1) of the Act.

Dated: November 16, 2000.
Joseph A. Spetrini,
Deputy Assistant Secretary, Enforcement Group III.

[FR Doc. 00-29903 Filed 11-21-00; 8:45 am]

BILLING CODE 3510-DS-P